FEDERAL COMMUNICATIONS COMMISSION

[DA 05-3140]

Rescheduling of the Eighth Meeting of the Advisory Committee for the 2007 World Radiocommunication Conference (WRC-07 Advisory Committee)

AGENCY: Federal Communications Commission.

ACTION: Notice.

SUMMARY: In accordance with the Federal Advisory Committee Act, this notice advises interested persons that the eighth meeting of the WRC-07 Advisory Committee originally scheduled for December 9, 2005 (FR Vol. 70, No. 201, Wednesday, October 19, 2005, Notices) has been rescheduled and will now be held on January 25, 2006, at the Federal Communications Commission. The purpose of the meeting is to continue preparations for the 2007 World Radiocommunication Conference. The Advisory Committee will consider any preliminary views and draft proposals introduced by the Advisory Committee's Informal Working Groups.

DATES: January 25, 2006; 11 a.m.-12 noon.

ADDRESSES: Federal Communications Commission, 445 12th Street, SW., Room TW-C305, Washington, DC 20554.

FOR FURTHER INFORMATION CONTACT: Alexander Roytblat, FCC International Bureau, Strategic Analysis and Negotiations Division, at (202) 418-7501.

SUPPLEMENTARY INFORMATION: This is a summary of the Commission's Public Notice, IB Docket No. 04-286, DA 05-3140, released December 5, 2005. The Federal Communications Commission (FCC) established the WRC-07 Advisory Committee to provide advice, technical support and recommendations relating to the preparation of United States proposals and positions for the 2007 World Radiocommunication Conference (WRC-07).

In accordance with the Federal Advisory Committee Act, Public Law 92-463, as amended, this notice advises interested persons of the eighth meeting of the WRC-07 Advisory Committee. The WRC-07 Advisory Committee has an open membership. All interested parties are invited to participate in the Advisory Committee and to attend its meetings. The proposed agenda for the eighth meeting is as follows:

Agenda

Eighth Meeting of the WRC-07 Advisory Committee, Federal Communications Commission, 445 12th Street, SW., Room TW-C305, Washington, DC 20554; January 25, 2006; 11 a.m.-12 Noon

1. Opening Remarks

2. Approval of Agenda

3. Approval of the Minutes of the Seventh Meeting

4. Reports on Recent WRC-07 Preparatory Meetings

5. NTIA Draft Preliminary Views and Proposals

6. Informal Working Group Reports and Recommendations

7. Future Meetings

8. Other Business

Federal Communications Commission.
Don Abelson,
Chief, International Bureau.

[FR Doc. 05-23857 Filed 12-13-05; 8:45 am]

BILLING CODE 6712-01-P